DEPARTMENT OF THE INTERIOR

National Park Service

[NPS-WASO-NAGPRA-16686; PPWOCRADN0-PCU00RP14.R50000]

Notice of Inventory Completion: Spurlock Museum, University of Illinois at Urbana-Champaign, Urbana, IL

AGENCY: National Park Service, Interior.

ACTION: Notice.

SUMMARY: The Spurlock Museum University of Illinois at Urbana-Champaign has completed an inventory of human remains and associated funerary object, in consultation with the appropriate Indian tribes or Native Hawaiian organizations, and has determined that there is a cultural affiliation between the human remains and associated funerary object and present-day Indian tribes or Native Hawaiian organizations. Lineal descendants or representatives of any Indian tribe or Native Hawaiian organization not identified in this notice that wish to request transfer of control of these human remains and associated funerary object should submit a written request to the Spurlock Museum. If no additional requestors come forward, transfer of control of the human remains and associated funerary object to the lineal descendants, Indian tribes, or Native Hawaiian organizations stated in this notice may proceed.

DATES: Lineal descendants or representatives of any Indian tribe or Native Hawaiian organization not identified in this notice that wish to request transfer of control of these human remains and associated funerary object should submit a written request with information in support of the request to the Spurlock Museum at the address in this notice by November 17, 2014.

ADDRESSES: Jennifer White, Registrar, Spurlock Museum University of Illinois at Urbana-Champaign, 600 South Gregory Street, Urbana, IL 61801, telephone (217) 244-3353, email Jenwhite@illinois.edu.

SUPPLEMENTARY INFORMATION: Notice is here given in accordance with the Native American Graves Protection and Repatriation Act (NAGPRA), 25 U.S.C. 3003, of the completion of an inventory of human remains and associated funerary object under the control of the Spurlock Museum University of Illinois at Urbana-Champaign. The human remains and associated funerary object were removed from Point Barrow Headland, AK.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

Consultation

A detailed assessment of the human remains and associated funerary object was made by the Spurlock Museum professional staff in consultation with representatives of the Native Village of Barrow Inupiat Traditional Government.

History and Description of the Remains

Between 1913 and 1917, human remains representing, at minimum, 21 individuals were removed from Point Barrow Headland, AK. The human remains are 21 teeth acquired by the Museum of Natural History at the University of Illinois at Urbana-Champaign and later transferred to the Spurlock Museum. The human remains were identified as “possibly from grave site” from the Point Barrow Headlands and were acquired on the “Alaskan Expedition.” Original ledgers from the Museum of Natural History are missing and no additional information has been uncovered regarding further details of the provenance of these items. The teeth appear to include ten adult teeth, nine teeth that are likely to be adult teeth, and two teeth of a child. No known individuals were identified. The associated funerary object is one canid tooth.

Determinations Made by the Spurlock Museum

Officials of the Spurlock Museum have determined that:

• Pursuant to 25 U.S.C. 3001(9), the human remains described in this notice represent the physical remains of 21 individuals of Native American ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and associated funerary object and the Native Village of Barrow Inupiat Traditional Government.

Additional Requestors and Disposition

Lineal descendants or representatives of any Indian tribe or Native Hawaiian organization not identified in this notice that wish to request transfer of control of these human remains and associated funerary object should submit a written request with information in support of the request to Jennifer White, Registrar, Spurlock Museum University of Illinois at Urbana-Champaign, 600 South Gregory Street, Urbana, IL 61801, telephone (217) 244-3353, email Jenwhite@illinois.edu, by November 17, 2014. After that date, if no additional requestors have come forward, transfer of control of the human remains and associated funerary object to Native Village of Barrow Inupiat Traditional Government may proceed.

The Spurlock Museum is responsible for notifying the Native Village of Barrow Inupiat Traditional Government that this notice has been published.

Dated: September 12, 2014.
Melanie O'Brien,
Acting Manager, National NAGPRA Program.

[FR Doc. 2014-24519 Filed 10-15-14; 8:45 am]

BILLING CODE 4312-50-P